NATIONAL ARCHIVES AND RECORDS ADMINISTRATION

[NARA-2021-039]

Agency Information Collection Activities: Submission for OMB Review; Comment Request

AGENCY: National Archives and Records Administration (NARA).

ACTION: Notice.

SUMMARY: We have submitted a request to the Office of Management and Budget (OMB) for approval to continue to collect information used by registrants or other authorized individuals to request information from or copies of Selective Service System (SSS) records. We invite you to comment on this proposed information collection.

DATES: OMB must receive written comments on or before September 1, 2021.

ADDRESSES: Send any comments and recommendations on the proposed information collection in writing to www.reginfo.gov/public/do/PRAMain. You can find this particular information collection by selecting “Currently under 30-day Review—Open for Public Comments” or by using the search function.

FOR FURTHER INFORMATION CONTACT: Tamee Fechhelm, Paperwork Reduction Act Officer, by email at tamee.fechhelm@nara.gob or by telephone at 301.837.1694 with any requests for additional information.

SUPPLEMENTARY INFORMATION: Pursuant to the Paperwork Reduction Act of 1995 (Pub. L. 104-13), we invite the general public and other Federal agencies to comment on proposed information collections. We published a notice of proposed collection for this information collection on May 10, 2021 (86 FR 24900) and we received one comment. The commenter stated, “I am a professional genealogist and I frequently research elusive individuals who lived in the 20th century. These selective service records are immensely useful, because they cover nearly all males, but they are very inaccessible because they can only be found if the individual's exact address is known. The form necessarily requires address, because that is how the records are organized. However, this impacts my ability to do my job because it renders the vital documents unusable if the registrant moved around and I cannot pinpoint exactly where he lived. I hope that NARA prioritizes either the indexing or digitization of these documents, so that they can be better utilized by the research community, thus not requiring the address to be known.”

We have considered this comment and provided a response to the commenter. Due to the size of the collection, we have no immediate plans to index the Records of the Selective Service System. However, a great number of the Draft Registration cards, including those from WWI (1917-1918) and WWII, have been digitized and are available online at ancestry.com, fold3.com, and familysearch.org (the latter two offer free memberships), which provide their own means of searching and tagging to aid people in finding the records. Once normal operations resume, records on ancestry.com can be viewed for free in National Archives Public Research Rooms with Public Access PCs. Prior to the pandemic, we discussed possibly digitizing the post-WWII Draft Registration cards, and hope to continue such discussions post-pandemic, once we resume normal operations. We appreciate the comment and will continue efforts to make records more accessible.

This comment does not change the purpose of the information collection or change the information we collect from researchers who are requesting access to archival records. We have therefore submitted the described information collection to OMB for approval. We will continue requesting as much record-identifying information from researchers as possible, pursuant to this information collection, to aid us in finding the documents researchers seek, including the SSS records this researcher mentions.

If you have comments or suggestions, they should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses.

In this notice, we solicit comments concerning the following information collection:

Title: Selective Service System Record Request.

OMB number: 3095-0071.

Agency form numbers: NA Form 13172.

Type of review: Regular.

Affected public: Individuals or households.

Estimated number of respondents: 1,500.

Estimated time per response: 2 minutes.

Frequency of response: On occasion.

Estimated total annual burden hours: 50.

Abstract: The National Personnel Records Center (NPRC) of the National Archives and Records Administration (NARA) administers the Selective Service System (SSS) records. The SSS records contain both classification records and registration cards of registrants born before January 1, 1960. When registrants or other authorized individuals request information from or copies of SSS records they must provide on forms or letters certain information about the registrant and the nature of the request. Requesters use NA Form 13172, Selective Service Record Request to obtain information from SSS records stored at NARA facilities.

Swarnali Haldar,
Executive for Information Services/CIO.

[FR Doc. 2021-16444 Filed 7-30-21; 8:45 am]

BILLING CODE 7515-01-P